ENVIRONMENTAL PROTECTION AGENCY

[ER-FRL-8585-5]

Environmental Impacts Statements; Notice of Availability

Responsible Agency: Office of Federal Activities, General Information (202) 564-1399 or http://www.epa.gov/compliance/nepa/.

Weekly Receipt of Environmental Impact Statements

Filed 09/01/2008 Through 09/05/2008

Pursuant to 40 CFR 1506.9

EIS No. 20080344, Draft EIS, COE, MN,Mississippi River Headwaters Reservoir Operating Plan Evaluation (ROPE), Proposed Revision to the Operating Plan for the Reservoirs, Upper Mississippi River Headwaters, Bemidji to St. Paul, MN, Comment Period Ends: 11/03/2008, Contact: Steve Clark 651-290-5278.

EIS No. 20080345, Draft EIS, USN, NC, Navy Cherry Point Range Complex, Proposed Action is to Support and Conduct Current and Emerging Training and Research, Development, Testing and Evaluation (RDT&E) Activities, South Atlantic Bight, Cape Hatteras, NC, Comment Period Ends: 10/27/2008, Contact: Arron Slater 757-322-4960.

EIS No. 20080346, Draft EIS, USN, WA, Naval Sea Systems Command (NAVSEA). Naval Undersea Warfare Center (NUWC), Keyport Complex Extension, Propose to Extend the Operational Areas, Three Distinct Range Sites: Keyport Range Site; Dabob Bay Range Complex (DBRC) Site, Quinault Underwater Tracking Range Site, Gray Harbor, Jefferson, Kitsap and Mason Counties, WA, Comment Period Ends: 10/27/2008, Contact: Kimberly Kler 360-396-0927.

EIS No. 20080347, Final EIS, COE, MD, Atlantic Coast of Maryland Shoreline Protection Project, Proposed Dredging of Several New Offshore Shoals to Provide Sand for Borrow Sources from 2010 to 2044, Ocean City, Worcester County, MD, Wait Period Ends: 10/14/2008, Contact: Christopher Spaur 410-962-6134.

EIS No. 20080348, Draft EIS, USN, 00, Undersea Warfare Training Range Project, Installation and Operation, Preferred Site Jacksonville Operating Area, FL and Alternative Sites (within the Charleston, SC; Cherry Point, NC; and VACAPES Operating Areas, VA, Comment Period Ends: 10/27/2008, Contact: Lesky Leonard 757-322-4645

EIS No. 20080349, Draft EIS, AFS, CA,Round Valley Fuels Reduction and Vegetation Management Project, Proposes to Reduce Fuel and Manage Vegetation, Funding, Goosenest Ranger District, Klamath National Forest, Siskiyou County, CA, Comment Period Ends: 10/27/2008, Contact: Leslie Burkhart 530-398-4391.

EIS No. 20080350, Draft EIS, NOA, 00, Programmatic EIS—Fishery Management Plan for Regulating Offshore Marine Aquaculture in the Gulf of Mexico, To Increase the Maximum Sustainable Yield (MSY) and Optimun Yield (OY), Implementation, Comment Period Ends: 10/27/2008, Contact: Roy E. Crabtree 727-824-5701.

EIS No. 20080351, Final EIS, SFW, NV, Coyote Spring Investment Multispecies Conservation Plan, Issuing a 40-year Incidental Take Permit for Five Species, Clark and Lincoln Counties, NV, Wait Period Ends: 10/14/2008, Contact: Mary Grim 916-414-6464

Amended Notices

EIS No. 20080242, Draft EIS, BLM, WV,East Lynn Lake Coal Lease Project, Proposal to Lease Federal Coal that lies Under Nine Tracts of Land for Mining, Wayne County, WV, Comment Period Ends: 11/10/2008, Contact: Chris Carusona 414-297-4463.

Revision of FR Notice Published 06/27/2008: Extending Comment Period from 09/24/2008 to 11/10/2008.

Dated: September 9, 2008.
Robert W. Hargrove,
Director, NEPA Compliance Division, Office of Federal Activities.

[FR Doc. E8-21301 Filed 9-11-08; 8:45 am]

BILLING CODE 6560-50-P